DEPARTMENT OF COMMERCE

National Oceanic and Atmospheric Administration

[RTID 0648-XA866]

Programmatic Environmental Impact Statement for the NMFS Saltonstall-Kennedy Research and Development Program

AGENCY: National Marine Fisheries Service (NMFS), National Oceanic and Atmospheric Administration (NOAA), Department of Commerce.

ACTION: Notice of intent; announcement of public scoping meetings; request for written comments.

SUMMARY: NOAA announces its intent to prepare a Programmatic Environmental Impact Statement (PEIS) for the implementation of projects that foster the promotion, marketing, research, and development of U.S. Fisheries and their associated fishing sectors, as consistent with NOAA's Saltonstall-Kennedy Research and Development Program (S-K Program). The focus of this action will be activities and projects under the S-K Program, which interfaces with numerous programs within NOAA, and it is NOAA's intention that this PEIS may also cover those activities and projects implemented by other NOAA programs and offices that are consistent with the scope of the S-K Program. The S-K Program funds projects that address the needs of fishing communities, optimize economic benefits by building and maintaining sustainable fisheries (where the term “fisheries” includes commercial wild capture, recreational fishing, cultural and subsistence fishing, and marine aquaculture), and increase other opportunities to keep working waterfronts viable. This notice of intent (NOI) to prepare a PEIS initiates the public scoping process and invites interested parties to provide comments on the proposed project, its potential to affect the human environment, means for avoiding, minimizing, or mitigating those effects, the preliminary range of alternatives, and any additional reasonable alternatives that should be considered.

DATES: Written comments on this scoping process must be received no later than March 25, 2021.

ADDRESSES: Submit your comments on this scoping notice by Federal e-Rulemaking Portal: Go to http://www.regulations.gov/docket/NOAA-NMFS-2021-0012. Click the “Comment Now!” icon, complete the required fields, and enter or attach your comments.

Instructions: Comments sent by any other method, to any other address or individual, or received after the end of the comment period, may not be considered by NOAA. All comments received are a part of the public record and will generally be posted for public viewing on www.regulations.gov without change. All personal identifying information (e.g., name, address, etc.), confidential business information, or otherwise sensitive information submitted voluntarily by the sender will be publicly accessible. NOAA will accept anonymous comments (enter “N/A” in the required fields if you wish to remain anonymous).

Comments will also be accepted at public scoping meetings. The webinar and telephone information for the public scoping meetings is provided below in the Scoping Process section.

FOR FURTHER INFORMATION CONTACT: Cliff Cosgrove, Saltonstall-Kennedy Program Manager, telephone: (301-427-8736); nmfs.sk.peis@noaa.gov; or visit the S-K Program website: https://www.fisheries.noaa.gov/content/saltonstall-kennedy-research-and-development-program.

SUPPLEMENTARY INFORMATION: As required by the National Environmental Policy Act (NEPA), the PEIS will analyze the environmental impacts of implementing each of the alternatives, if carried forward for full review following public scoping, by assessing the effects of each alternative on the human environment.

Project Scope

The purpose of this PEIS is to identify and evaluate the general impacts, issues and concerns related to the implementation of the types of projects that are consistent with the scope of the S-K Program. The PEIS will be used to support site- and project-specific NEPA reviews, as necessary. The PEIS will address all of the priorities, and their associated project types, that the S-K Program has funded to date, which cover the range of priorities and project types that fall under the S-K Program. The affected environment associated with the proposed action includes all coastal, estuarine, and marine habitats in the United States and its territories. It also includes inland habitats that influence or affect rivers, streams, and creeks affecting marine or estuarine waters, or that support migratory fish populations. It may also include adjacent or continuous habitats in Canada or Mexico that support living coastal and marine resources under NOAA trusteeship.

To ensure consideration of input from interested parties in each region, NOAA will conduct three public scoping meetings. Each meeting will be focused on a region or combination of regions based on time zone proximity. More information about each meeting, including meeting dates and times, can be found in the Scoping Process section below.

Background

In 1954, the Saltonstall-Kennedy Act (15 U.S.C. 713c-3) was passed to address the needs of U.S. fisheries and their associated fishing sectors, and thereby established the S-K Program. The Saltonstall-Kennedy Act states that The Secretary shall make grants to assist persons in carrying out research and development projects addressed to any aspect of United States fisheries, including, but not limited to, harvesting, processing, marketing, and associated infrastructures.

The S-K Program provides funding to projects that benefit fishing communities through the promotion, marketing, research, and development, of U.S. fisheries and their associated fishing sectors. Since its inception, grants have been provided to fishers, individuals, private businesses, fishing organizations, universities, states, research institutes, non-governmental organizations, and others.

The S-K Program is composed of a competitive grant program and a national program. Grants and cooperative agreements are provided under both programs and can occur in any of NMFS's five fisheries regions. The national program is designed to fund needed fishery industry projects that are not addressed through the competitive grants program. Funding for the S-K Program is determined through annual congressional appropriations. Historically, the S-K Program has had a diverse set of priorities, selecting between two and seven projects each year for funding. The primary priority has been projects that meet the purpose of promotion, development, and marketing (PDM) of U.S. fisheries and their associated fishing sectors, and NMFS anticipates that will continue to be the primary priority, but priorities can change annually and additional priorities can be chosen.

For more information about the S-K Program, please use the link provided in the FOR FURTHER INFORMATION CONTACT section above.

Proposed Action, Purpose, and Need

The proposed Federal action is to fund projects that are consistent with the scope of the S-K Program. The purpose of the proposed action is threefold: (1) Address the needs of fishing communities, consistent with NOAA's mandate through the Saltonstall-Kennedy Act; (2) ensure NOAA continues to meet the requirements of the Saltonstall-Kennedy Act; and (3) assist NOAA in meeting its mission, “To understand and predict changes in climate, weather, oceans, and coasts, to share that knowledge and information with others, and to conserve and manage coastal and marine ecosystems and resources”. The Proposed Action is needed to address the needs of fishing communities by building and maintaining sustainable fisheries, optimizing economic benefits, and increasing other opportunities to keep working waterfronts viable.

Types of projects funded by the S-K Program include, but are not limited to, promotion and marketing; aquaculture; gear testing; bycatch reduction engineering; research and monitoring; stock assessments; data collection; socioeconomic research; climate change; and workshops and conferences.

Alternatives

NOAA is preliminarily preparing to analyze two program-level alternatives: (1) A No Action Alternative, and (2) the proposed action, which NOAA is referring to as the Promotion, Marketing, Research and Development Alternative. Under the No Action Alternative, the S-K Program would not fund projects that address the needs of fishing communities, optimize economic benefits by building and maintaining sustainable fisheries, and increase other opportunities to keep working waterfronts viable. Although the No Action Alternative would not meet the purpose and need, it serves as a baseline against which the impacts of the Promotion, Marketing, Research and Development Alternative will be compared and contrasted. Implementation of the Promotion, Marketing, Research and Development Alternative, will allow for funding actions through federal financial assistance for all possible types of projects that meet the needs of U.S. fishing communities, consistent with the scope of the S-K Program. This alternative would provide the S-K Program with flexibility in choosing priorities each year while also considering the funding environment. We invite public comments on the proposed scope of the alternatives and are particularly interested in comments regarding potential additional alternatives.

Scoping Process

This notice initiates a public scoping period for the PEIS. Please review the information in this notice and additional information about the S-K Program, located on the NOAA S-K Program website (see the FOR FURTHER INFORMATION CONTACT section above). NOAA is particularly interested in receiving comments regarding biological, cultural, or ecological issues that the analysis should address. We also encourage comments that assist us in further delineating the proposed project, its potential to affect the human environment, means for avoiding, minimizing, or mitigating those effects, the preliminary range of alternatives, any additional reasonable alternatives that should be considered, and other issues of public concern. To promote informed decision-making, we especially encourage commenters to submit any scientific data, studies, or research that you feel is relevant to the analysis.

To facilitate the public and agency involvement in the PEIS process, NOAA will hold three public-scoping meetings during the scoping period. The meetings will be virtual in format. The scoping meetings will solicit input from the public and interested public agencies regarding the scope of environmental impacts to be addressed in the draft PEIS. Three virtual public scoping meetings (in webinar format only) will be held in each of three regions, as follows:

• Eastern and Gulf of Mexico Region (includes Atlantic States, Gulf of Mexico States, U.S. Virgin Islands, and Puerto Rico)—March 9, 2021

○ 12:00 p.m.-3:00 p.m. Central Standard Time (CST)

○ 1:00 p.m.- 4:00 p.m. Eastern Standard Time (EST)

• Western Region (includes Pacific States, Idaho, Alaska)—March 10, 2021

○ 10:00 a.m.-1:00 p.m. Pacific Standard Time (PST)

○ 9:00 a.m.-12:00 p.m. Alaska Standard Time (AKST)

• Western Pacific Region (includes Hawaii and Pacific Territories)—March 11, 2021, March 12, 2021

○ March 11, 2021, 2:00 p.m.-5:00 p.m. Hawaii-Aleutian Standard Time (HST)

○ March 12, 2021, 10:00 a.m.-1:00 p.m. Chamorro Standard Time (CHST)

Use the webinar link and dial-in information below to join one of the public scoping meetings:

Webinar Link: https://kearnsandwest.webex.com/meet/webexalias3

Access Code: 146 622 5582

Dial-in Information: 1-844-621-3956 (U.S. Toll Free) | +1-415-655-0001 (U.S. Toll)

Participants are encouraged to download the Webex Meetings app ahead of the meetings, using this link: https://www.webex.com/downloads.html. Then use the meeting link above to join a public scoping meeting at the appropriate time. You may also participate by phone toll-free by calling 1-844-621-3956, then entering the Access Code above when prompted.

After the comment period closes, NOAA will review and consider all comments received during the comment period and any other relevant information when developing the draft PEIS. Upon completion of the draft PEIS, a document announcing its availability and an opportunity to comment will be published in the Federal Register.

Authority: This PEIS will be prepared under the authority of, and in accordance with, the requirements of NEPA, implementing regulations published by the Council on Environmental Quality (40 CFR 1500-1508), other applicable regulations, and NOAA's policies and procedures for compliance with those regulations.

Dated: February 16, 2021.
Daniel A. Namur,
Director of the NMFS Financial Assistance Division, National Marine Fisheries Service.

[FR Doc. 2021-03626 Filed 2-22-21; 8:45 am]

BILLING CODE 3510-22-P